DEPARTMENT OF DEFENSE

Office of the Secretary

[Transmittal No. 20-30]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-30 with attached Policy Justification.

Dated: December 21, 2020.
Kayyonne T. Marston,
Alternate OSD Federal Register Liaison Officer, Department of Defense.

BILLING CODE 5001-06-P

BILLING CODE 5001-06-C

Transmittal No. 20-30

Notice of Proposed Issuance of Letter of Offer Pursuant to Section 36(b)(1) of the Arms Export Control Act, as amended

(i) Prospective Purchaser: Government of Lebanon

(ii) Total Estimated Value:

Major Defense Equipment* | $40.0 million
Other | $15.5 million
TOTAL | $55.5 million

(iii) Description and Quantity or Quantities of Articles or Services under Consideration for Purchase:

Major Defense Equipment (MDE): Up to three hundred (300) M1152 High Mobility Multi-purpose Wheeled Vehicles (HMMWVs) (2 purchases of one hundred fifty (150) each)

Non-MDE: Also included are spare and repair parts, publications and technical documentation, personnel training and training equipment, technical and logistics support services, and other related elements of logistical and program support.

(iv) Military Department: Army (LE-B-WCC)

(v) Prior Related Cases, if any: 7C-B-UWZ, LE-B-UAH, QE-B-URV

(vi) Sales Commission, Fee, etc., Paid, Offered, or Agreed to be Paid: None

(vii) Sensitivity of Technology Contained in the Defense Article or Defense Services Proposed to be Sold: None

(viii) Date Report Delivered to Congress: December 1, 2020

*As defined in Section 47(6) of the Arms Export Control Act.

POLICY JUSTIFICATION

Lebanon—M1152 High Mobility Multi-purpose Wheeled Vehicles (HMMWVs)

The Government of Lebanon has requested to buy up to three hundred (300) M1152 High Mobility Multi-purpose Wheeled Vehicles (HMMWVs) (2 purchases of one hundred fifty (150) each). Also included are spare and repair parts, publications and technical documentation, personnel training and training equipment, technical and logistics support services, and other related elements of logistical and program support. The total estimated cost is $55.5 million.

This proposed sale will support the foreign policy and national security of the United States by helping to improve the security of a partner country that continues to be an important force for political stability and economic progress in the Middle East.

The proposed sale will provide sufficient modern transport vehicles to improve Lebanon's capability to meet current and future threats by improving its ability to move troops and supplies around the country to counter violent extremist organizations and to secure its border. Lebanon will have no difficulty absorbing this additional equipment and services into its armed forces as they currently operate over one thousand (1,000) HMMWVs of various variants.

The proposed sale of this equipment and support will not alter the basic military balance in the region.

The principal contractor will be American General, South Bend, Indiana. There are no known offset agreements proposed in connection with this potential sale.

Implementation of this proposed sale will require the assignment of two (2) U.S. contractor representatives to Lebanon for a duration of up to thirteen (13) weeks to conduct HMMWV operator and maintenance training.

There will be no adverse impact on U.S. defense readiness as a result of this proposed sale.

[FR Doc. 2020-28638 Filed 12-28-20; 8:45 am]

BILLING CODE 5001-06-P